OFFICE OF THE UNITED STATES TRADE REPRESENTATIVE

Charter Renewal of the Trade Advisory Committee on Africa (TACA); Request for Nominations

AGENCY: Office of the United States Trade Representative.

ACTION: Notice of Renewal of the Charter and Request for Nominations.

SUMMARY: The Office of the United States Trade Representative (“USTR”), pursuant to Section 135 of the Trade Act of 1974 (19 U.S.C. 2155(c)(1)) as amended, the Federal Advisory Committee Act (5 U.S.C. App. II), announces the renewal of the charter of the Trade Advisory Committee on Africa (TACA), a federal advisory committee established to provide trade and development policy advice regarding the countries of sub-Saharan Africa. The Charter will be effective for four years from the date of this Federal Register notice. There are currently opportunities for membership on this Committee. USTR is seeking nominations for membership on the Committee.

DATES: In order to receive full consideration, nominations for current vacancies should be received not later than April 18, 2014. Nominations will be accepted after April 18 until the expiration of the charter term on March 17, 2018, for appointments on a rolling basis as vacancies arise.

ADDRESSES: Submissions should be sent to Tiffany Enoch, Deputy Assistant U.S. Trade Representative, Office of Intergovernmental Affairs and Public Engagement at IAPE@ustr.eop.gov. For alternatives to email submission, please contact Tiffany Enoch at (202) 395-6120.

FOR FURTHER INFORMATION CONTACT: Questions regarding this request for nominations should be directed to Tiffany Enoch, Deputy Assistant U.S. Trade Representative for Intergovernmental Affairs and Public Engagement at (202) 395-6120.

SUPPLEMENTARY INFORMATION:

Background

Section 135 of the Trade Act of 1974, as amended (19 U.S.C. 2155), established a private-sector trade advisory system to ensure that U.S. trade policy and trade negotiation objectives adequately reflect U.S. commercial and economic interests.

Section 135(a)(2) directs the President to: Seek information and advice from representative elements of the private sector and the non-Federal governmental sector with respect to

(A) Negotiating objectives and bargaining positions before entering into a trade agreement under [title I of the Trade Act of 1974 and section 2103 of the Bipartisan Trade Promotion Authority Act of 2002];

(B) The operation of any trade agreement once entered into, including preparation for dispute settlement panel proceedings to which the United States is a party; and

(C) Other matters arising in connection with the development, implementation, and administration of the trade policy of the United States.

Section 135(c)(1) of the 1974 Trade Act provides that: [t]he President may establish individual general policy advisory committees for industry, labor, agriculture, services, investment, defense, and other interests, as appropriate, to provide general policy advice on matters referred to in subsection (a) of this section. Such committees shall, insofar as is practicable, be representative of all industry, labor, agricultural, service, investment, defense, and other interests, respectively, including small business interests, and shall be organized by the United States Trade Representative and the Secretaries of Commerce, Defense, Labor, Agriculture, the Treasury, or other executive departments, as appropriate. The members of such committees shall be appointed by the United States Trade Representative in consultation with such Secretaries.

Section 14 of the AGOA Acceleration Act of 2004 directs the President to convene the TACA “in order to facilitate the goals and objectives of the African Growth and Opportunity Act and this Act, and to maintain ongoing discussions with African trade and agricultural ministries and private sector organizations on issues of mutual concern, including regional and international trade concerns and World Trade Organization issues.” Pursuant to these provisions, the United States Trade Representative (USTR) is renewing the charter of the Trade Advisory Committee on Africa (TACA) concurrent with this notice.

Functions

The duties of the TACA are to provide the President, through the USTR, with policy advice on issues involving trade and development in sub-Saharan Africa. The TACA is expected to meet an average of two to three times a year in Washington, DC.

Membership

Members serve without compensation and are responsible for all expenses incurred to attend the meetings. TACA members are appointed by the USTR. Appointments are made at the chartering of the TACA and periodically throughout the four-year charter term. Members serve at the discretion of the USTR. Appointments to the TACA expire at the end of the TACA's charter term, in this case, March 17, 2018.

Members are selected to represent their respective sponsoring U.S. entity's interests on sub-Saharan African trade matters, and thus nominees are considered foremost based upon their ability to carry out the goals of section 135(c) of the Trade Act of 1974, as amended. Other criteria are the nominee's knowledge of and expertise in international trade issues as relevant to the work of the TACA and that representation on the TACA is balanced in terms of sectors, demographics, and other interests. Additionally, USTR may appoint members expert in a relevant subject matter to serve in an individual capacity. Appointments to the TACA are made without regard to political affiliation.

All TACA members must be able to obtain and maintain a security clearance.

Request for Nominations

USTR is soliciting nominations for membership on the TACA. In order to be appointed to the TACA, the following eligibility requirements must be met:

1. The applicant must be a U.S. citizen;

2. The applicant must not be a full-time employee of a U.S. governmental entity;

3. The applicant must not be a federally-registered lobbyist;

4. The applicant must not be registered with the Department of Justice under the Foreign Agents Registration Act;

5. The applicant must be able to obtain and maintain a security clearance; and

6. The applicant must represent a U.S. organization whose members (or funders) have a demonstrated interest in issues relevant to trade and development in sub-Saharan Africa or that (a) is directly engaged in the import or export of goods or that sells its services abroad, or (b) is an association of such entities.

For eligibility purposes, a “U.S. organization” is an organization, established under the laws of the United States, that is controlled by U.S. citizens, by another U.S. organization (or organizations), or by a U.S. entity (or entities), as determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

In order to be considered for TACA membership, a nominee should submit:

(1) Name, title, affiliation, and relevant contact information of the individual requesting consideration;

(2) A sponsor letter on the entity's or organization's letterhead containing a brief description of why the applicant should be considered for membership;

(3) The applicant's personal resume demonstrating knowledge of international trade issues;

(4) An affirmative statement that the applicant and the organization he or she represents meet all eligibility requirements;

(5) An affirmative statement that the applicant is not a federally registered lobbyist, and that the applicant understands that if appointed, the applicant will not be allowed to continue to serve as a TACA member if the applicant becomes a federally registered lobbyist; and

(6) Information regarding the sponsoring entity, including the control of the entity or organization to be represented and the organization's demonstrated interest in international trade. As noted, members of the committee are appointed to represent the views of their sponsoring entities. As such, committee members will generally serve as representatives of those organizations and not as Special Government Employees.

Submit applications to Tiffany Enoch, Deputy Assistant U.S. Trade Representative for Intergovernmental and Affairs and Public Engagement. Send applications to: iape@ustr.eop.gov. If you have any question please contact Ms. Enoch at (202) 395-6120.

Applicants that meet the eligibility criteria will be considered for membership based on the following criteria: Ability to represent the sponsoring U.S. entity's or U.S. organization's and its subsector's interests on trade and development matters; knowledge of and experience in trade and development matters relevant to the work of the Committee; and ensuring that the Committee is balanced in terms of points of view, demographics, geography, and entity or organization size.

Dated: March 13, 2014.
Jewel James,
Assistant U.S. Trade Representative, Intergovernmental Affairs and Public Engagement.

[FR Doc. 2014-05923 Filed 3-17-14; 8:45 am]

BILLING CODE 3290-F4-P